ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled its committee and board meetings to take place in Washington, DC from Monday through Wednesday, March 7-9, 2005 as noted below.

DATES: The schedule of events is as follows:

Monday, March 7, 2005

11 a.m.-Noon Ad Hoc Committee on Courthouse Access

1:30-4 p.m. Committee of the Whole—Strategic Plan—Closed

4-5 Ad Hoc Committee on Board Election Process

Tuesday, March 8, 2005

1:30-5 p.m. Ad Hoc Committee on Public Rights-of-Way—Closed

Wednesday, March 9, 2005

9-10 a.m. Planning and Budget Committee

10-11 Technical Programs Committee

11-Noon Executive Committee

1:30-3 p.m. Board Meeting

ADDRESSES: The meeting will be held at the Hilton Garden Inn, Franklin Square Hotel, 815 14th Street, NW., Washington, DC 20005.

FOR FURTHER INFORMATION CONTACT: For further information regarding this meeting, please contact Lawrence W. Roffee, Executive Director, (202) 272-0001 (voice) and (202) 272-0082 (TTY).

SUPPLEMENTARY INFORMATION: At the Board meeting, the Access Board will consider the following agenda items:

(a) Approval of the January 12, 2005 draft meeting minutes;

(b) Committee reports: Ad Hoc Committee on Courthouse Access; Ad Hoc Committee on Board Election Process; Planning and Budget Committee; Technical Programs Committee; Executive Committee; Committee of the Whole (Strategic Plan);

(c) Public rights-of-way guidelines (closed); and

(d) Election of officers.

This meeting is accessible to persons with disabilities. If you plan to attend and require a sign language interpreter or similar accommodation, please make your request with the Board by March 1, 2005. Persons attending Board meetings are requested to refrain from using perfume, cologne, and other fragrances for the comfort of other participants.

Lawrence W. Roffee,
Executive Director.

[FR Doc. 05-4022 Filed 3-1-05; 8:45 am]

BILLING CODE 8150-01-P